DEPARTMENT OF HEALTH AND HUMAN SERVICES

Centers for Medicare & Medicaid Services

42 CFR Parts 419 and 485

[CMS-1501-CN2]

RIN 0938-AN46

Medicare Program; Changes to the Hospital Outpatient Prospective Payment System and Calendar Year 2006 Payment Rates; Correction

AGENCY: Centers for Medicare & Medicaid Services (CMS), HHS.

ACTION: Correction of final rule with comment period.

SUMMARY: This document corrects technical errors that appeared in the final rule with comment period published in the Federal Register on November 10, 2005 entitled “Changes to the Hospital Outpatient Prospective Payment System and Calendar Year 2006 Payment Rates; Final Rule.”

EFFECTIVE DATE: January 1, 2006.

FOR FURTHER INFORMATION CONTACT: Rebecca Kane, (410) 786-0378.

SUPPLEMENTARY INFORMATION:

I. Background

In FR Doc. 05-22136 (70 FR 68515), we have identified a number of technical errors that we have described in the “Summary of Errors” section and corrected in the “Correction of Errors” section below. The provisions in this correction notice are effective as if they had been included in the CY 2006 final rule with comment period. Accordingly, the corrections are effective January 1, 2006.

II. Summary of Errors

On November 10, 2005, we published the CY 2006 Hospital Outpatient Prospective Payment System (OPPS) final rule with comment period. Included in that document were several technical and typographical errors that we are correcting in section III of this notice.

A. Correction of Technical Errors

We are correcting the following technical errors that were included in the CY 2006 OPPS final rule with comment period affecting drug administration code C8596, estimated expenditures, regulation text, hospital coding for sodium hyaluronate products, and Addendum L.

On page 68680, we neglected to remove the first row, referencing HCPCS code C8956, from Table 31 and the accompanying discussion regarding C8956 from the response to the comment included in the third column, third paragraph. We are correcting these errors in this notice.

On page 68726, we referred to the transfer from the Federal government to Medicare providers in billions rather than millions in the accounting table. We are correcting the error in this notice.

On page 68728, we omitted a reference to pass-through devices in the regulation text as stated in the preamble text at 68559. We correct this omission in this notice.

On page 68643 and in Addendum B we erroneously referred to the creation of a code by the National HCPCS Panel, specifically the creation of HCPCS code J7318. This was incorrect as this code was not created by the National HCPCS Panel. Our error was discovered after publication, and we are taking this opportunity to revise Addendum B to reflect the CY 2006 payment for Sodium Hyaluronate products using HCPCS codes J7317 and J7320, as originally included in the CY 2006 OPPS proposed rule.

On pages 68752-68913 we published Addendum B—Payment Status by HCPCS Code and Related Information—CY 2006. We excluded several codes from this table. In section III of this correction notice we correct this error by publishing the omitted codes.

On pages 68964 through 68980, we published Addendum L—Out-Migration Wage Adjustment CY 2006. We excluded several providers from this table. In Section III of this correction notice, we republish Addendum L.

B. Other Corrections

We are also correcting typographical, formatting, and other technical errors that were contained in the CY 2006 OPPS final rule with comment period.

III. Waiver of Proposed Rulemaking and Delay in Effective Date

We ordinarily publish a notice of proposed rulemaking in the Federal Register to provide a period for public comment before the provisions of a notice such as this takes effect in accordance with section 553(b) of the Administrative Procedure Act (APA) (5 U.S.C. 553(b)). We also ordinarily provide a 30-day delay in the effective date of the provisions of a notice in accordance with section 553(d) of the APA (5 U.S.C. 553(d)). However, we can waive both the notice and comment procedure and the 30-day delay in effective date if the Secretary finds, for good cause, that it is impracticable, unnecessary or contrary to the public interest, and incorporates a statement of the finding and the reasons therefore in the notice.

The policies and payment methodology finalized in the CY 2006 OPPS final rule with comment period have previously been subjected to notice and comment procedures. This correction notice merely provides technical corrections to the CY 2006 OPPS final rule with comment period that was promulgated through notice and comment rulemaking, and does not make substantive changes to the policies or payment methodology that were finalized in the final rule with comment period. For example, this notice corrects typographical errors, makes clarifications to the preamble and regulations text, and revises inaccurate tabular data. Therefore, we find it unnecessary to undertake further notice and comment procedures with respect to this correction notice. We also believe it is in the public interest to waive notice and comment procedures and the 30-day delay in effective date for this notice. This correction notice is intended to ensure that the CY 2006 OPPS final rule with comment period accurately reflects the policies expressed in the final rule, and that the corrected information is made available to the public prior to January 1, 2006, the date on which the final rule becomes effective.

For the reasons stated above, we find that both notice and comment and the 30-day delay in effective date for this correction notice are unnecessary and that it is in the public interest to make this notice effective in conjunction with the final rule to which the corrections apply. Therefore, we find there is good cause to waive notice and comment procedures and the 30-day delay in effective date for this correction notice.

IV. Correction of Errors

In FR Doc. 05-22136 (70 FR 68515), make the following corrections:

A. Corrections to Preamble Text

1. On page 68516, in column 3, in the second full paragraph, line 3, the term “OPPA” is corrected to read “OPPS.”

2. On page 68517, in column 1, in the 15th paragraph, line 1, the phrase “(Cost center specific)” is removed.

3. On page 68518, in column 1, in the 11th paragraph, line 2, the phrase “and0651” is corrected to read “and 0651.”

4. On page 68537,

a. In column 3, in the first full paragraph, lines 5 to 6, the phrase “of the proposed rule (76 FR 42690)” is removed.

b. In column 3, in the first full paragraph, line 6, the word “contained” is corrected to read “contains.”

5. On page 68549,

a. In column 2, in the first full paragraph, line 7, the amount “$246.04” is corrected to read “$245.91.”

b. In column 2, in the first full paragraph, line 8, the amount “$49.21” is corrected to read “$49.18.”

6. On page 68551, in column 3; in the second full paragraph, line 12, the term “TEFRA” is removed.

7. On page 68552,

a. In column 1, in the second partial paragraph, line 32, the term “TEFRA” is removed.

b. In column 2, in the first partial paragraph carried over from column 1, line 14, the term “TEFRA” is removed.

c. In column 2, in the first partial paragraph carried over from column 1, line 15, the line is corrected by inserting the phrase “paid under the OPPS but not under the IPPS” between the words “hospitals” and “will.”

d. In column 3, in the first partial paragraph carried over from column 2, line 3, the term “TEFRA” is removed.

e. In column 3 in the first partial paragraph carried over from column 2, line 5, the term “TEFRA” is corrected to read “these.”

f. In column 3, in the first partial paragraph carried over from column 2, line 10, the term “TEFRA” is corrected to read “these.”

g. In column 3, in the first partial paragraph carried over from column 2, line 17, the term “TEFRA” is removed.

h. In column 3, in the first partial paragraph carried over from column 2, line 18, the line is corrected by inserting the phrase term “not paid under the IPPS” between the words “hospitals” and “that”.

8. On page 68556, in column 2, in the second full paragraph, in line 20, the sentence is corrected by adding the following bolded text “payments, brachytherapy seeds, and any service”.

9. On page 68559,

a. In column 1, below the table footnotes, line 14, following “biologicals” the word “and” is removed.

b. In column 1, below the table footnotes, line 16 is corrected adding, “, and brachytherapy seeds.” after “payment policy”.

10. On page 68561,

a. In column 1, line 7, add a “,” after term “rural hospitals”.

b. In column 1, in the last partial paragraph, line 7, remove the word “because” and add “as” in its place.

c. In column 2, in the first partial paragraph carried over from column 1, line 11, “2 percent” is corrected to read “−2 percent”.

11. On page 68565, column 1, in the fifth full paragraph, line 5, “2005” is corrected to read “2006”.

12. On page 68578, column 1, in the last partial paragraph, line 2, the number “0042” is corrected to read “0429.”

13. On page 68596, column 2, in the first full paragraph,

a. Line 8, the amount “$2,662.62” is corrected to read “$2,709.14.”

b. Line 12, the amount “$2,975.50” is corrected to read “$3,051.67.”

14. On page 68606, in column 1, in the first full paragraph, line 10, the number “0442” is corrected to read “0422.”

15. On page 68628,

a. In column 2, in the first partial paragraph carried over from column 1, line 5, the word “where” is corrected to read “when.”

b. In column 2, in the third full paragraph, line 17, the phrase “November 13, 2000 final rule” is corrected to read “November 13, 2000 interim final rule with comment period.”

16. On page 68630,

a. In column 1, in the first partial paragraph carried over from page 68629, line 4, the date “August 3” is corrected to read “November 13.”

b. In column 2, in the first full paragraph, line 13, the date “August 3” is corrected to read “November 13.”

c. In column 2, in the first full paragraph, line 13, the line is corrected by inserting “with comment period” at the end of the sentence.

d. In column 2, in the first full paragraph, line 33, the date “August 3” is corrected to read “November 13.”

17. On page 68637, in Table 22, the footnote is removed from the column one heading.

18. On page 68679, in column 1; in the first partial paragraph at the bottom of the page, line 6, the number “31” is corrected to read “30.”

19. On page 68680,

a. In column 3, in the third paragraph, line 3, the term “codes” is corrected to read “code.”

b. In column 3, in the third paragraph, lines 3 through 8, the sentence is corrected by removing the phrase “C8956 (Refilling and maintenance of portable or implantable pump or reservoir for drug delivery for therapy/diagnosis, systemic (e.g., intravenous, intra-arterial)) and.”

c. In Table 31, the table is corrected by removing row 1.

20. On page 68717, in column 1, first partial paragraph continued from the previous page, line 24, the line is corrected by inserting the phrase “brachytherapy seeds,” after the word “* * * biologicals,”.

21. On page 68719, in column 1, the third partial paragraph, line 9, the sentence is corrected by inserting the phrase “at least” between the word “of” and the number “0.2.”

22. On page 68720, in column 3, in the second full paragraph, line 30, the number “3.2” is corrected to read “3.0.”

23. On page 68726, in table 41, in column 2, row 2, “$660 Billion.” is corrected to read “$660 Million.”

§ 419.43 [Amended]

24. On page 68728,

a. In column 1, in the first partial paragraph carried over from page 68727, line 1, the phrase “APC and devices of” is corrected to read “APC, devices of.”

b. In column 1, in the first partial paragraph carried over from page 68727, line 3, the sentence is corrected by inserting the phrase, “, and devices paid under § 419.66” after the phrase “(including a radioactive source).”

B. Corrections to Addendum A

1. On page 68736, for APC 0339, row 22, column 3, “Q” is corrected to read “S.”

2. On page 68738, for APC 0430, row 27, is removed.

3. On page 68743, for APC 1491, row 23, column 6, “$2.00” is removed.

4. On page 68746, APC 1611 is added in numerical order as follows:

a. Column 2 reads “Hylan G-F 20 injection,”

b. Column 3 reads “K,”

c. Column 4 is blank,

d. Column 5 reads “$199.09,”

e. Column 6 is blank,

f. Column 7 reads “$39.82.”

5. On page 68748,

a. APC 1706, row 18, is removed.

b. For APC 1713, row 25, column 2, “Inj Fe-based MR contrast, ml” is corrected to read “Inj Fe-base MR contrast, 1m1.”

6. On page 68749, APC 7316 is added as follows:

a. Column 2 reads “Sodium hyaluronate injection,”

b. Column 3 reads “K,”

c. Column 4 is blank,

d. Column 5 reads “$106.70,”

e. Column 6 is blank,

f. Column 7 reads “$21.34.”

7. On page 68750,

a. For APC 9119, row 19, column 2, “Pentastarch 10% solution” is corrected to read “Injection, pegfilgrastim 6mg.”

b. For APC 9126, row 25, column 2, “Injection, Natalizumab, 1mg” is corrected to read “Natalizumab injection.”

8. On page 68751, for APC 9164, row 7, column 2, “Inj Gad-base MR contrast, ml” is corrected to read “Inj Gad-base MR contrast, 1ml.”

C. Corrections to Addendum B

1. On page 68876,

a. For HCPCS code 95965, row 9,

i. In column 4, “T” is corrected to read “S,”

ii. In column 5, “0430” is corrected to read “1523,”

iii. In column 6, “10.8452” is removed,

iv. In column 7, “$645.41” is corrected to read “$2,750.00,”

v. In column 9, “$129.08” is corrected to read “$550.00.”

b. For HCPCS code 95966, row 10,

i. In column 4, “T” is corrected to read “S,”

ii. In column 5, “0430” is corrected to read “1514,”

iii. In column 6, “10.8452” is deleted,

iv. In column 7, “$645.41” is corrected to read “$1,250.00,”

v. In column 9, “$129.08” is corrected to read “$250.00.”

c. For HCPCS code 95967, row 11,

i. In column 4, “T” is corrected to read “S,”

ii. In column 5, “0430” is corrected to read “1510,”

iii. In column 6, “10.8452” is deleted,

iv. In column 7, “$645.41” is corrected to read “$850.00,”

v. In column 9, “$129.06” is corrected to read “$170.00.”

2. On page 68880,

a. For HCPCS code 0001F, row 1, column 4, “D” is corrected to read “E.”

b. For HCPCS code 0005F, row 7, column 4, “D” is corrected to read “E.”

3. On page 68888, for HCPCS code C8956, row 14,

a. In column 4, “T” is corrected to read “D,”

b. In column 5, “0125” is removed,

c. In column 6, “1.9021” is removed,

d. In column 7, “$113.20” is removed,

e. In column 9, “$22.64” is removed.

4. On page 68895,

a. For HCPCS code G0375, row 36, column 8, “$2.00” is removed.

b. For HCPCS code G0376, row 37, column 8, “$2.00” is removed.

5. On page 68901,

a. For HCPCS code J2505, row 20, column 2, “Pentastarch 10% solution” is corrected to read “Injection, pegfilgrastim 6mg.”

b. For HCPCS code J2510, row 21, column 2, “Sincalide injection” is corrected to read “Penicillin g procaine inj.”

6. On page 68902, for HCPCS code J3070, row 26, column 2, “Pentazocine hcl injection” is corrected to read “Pentazocine injection.”

7. On page 68904,

a. For HCPCS code J7317, row 12, column 4,

i. “D” is corrected to read “K,”

ii. In column 5, “7316” is added,

iii. In column 7, “$106.70” is added,

iv. In column 9, “$21.34” is added.

b. For HCPCS code J7318, row 13,

i. In column 4, “K” is corrected to read “D,”

ii. In column 5, “1706” is removed,

iii. In column 7, “$7.20” is removed,

iv. In column 9, “$1.44” is removed,

c. For HCPCS code J7320, row 14,

i. In column 4, “D” is corrected to read “K,”

ii. In column 5, “1611” is added,

iii. In column 7, “$199.09” is added,

iv. In column 9, “$39.82” is added.

8. On page 68907, for HCPCS code K0105, row 8, column 4, “D” is corrected to read “Y.”

9. On page 68912,

a. For HCPCS code Q4079, row 15, column 2, “Injection, Natalizumab, 1 MG” is corrected to read “Natalizumab injection.”

b. For HCPCS code Q9946, row 21, column 2, “LOCM <=149 mg/ml iodine, 1ml” is corrected to read “LOCM 150-199 mg/ml iodine, 1ml.”

c. For HCPCS code Q9952, row 27, column 2, “Inj Gad-base MR contrast, ml” is corrected to read “Inj Gad-base MR contrast, 1ml.”

d. For HCPCS code Q9953, row 28, column 2, “Inj Fe-based MR contrast, ml” is corrected to read “Inj Fe-based MR contrast, 1ml.”

10. The following HCPCS codes were inadvertently omitted from the Addendum B. We correct this error by listing the omitted codes below.

HCPCS/CPT | Short descriptor | CI | SI | APC | Relative weight | Payment rate | National unadjusted copayment | Minimum unadjusted copayment
22010 | I&d, p-spine, c/t/cerv-thor | NI | C
22015 | I&d, p-spine, l/s/ls | NI | C
32503 | Resect apical lung tumor | NI | C
32504 | Resect apical lung tum/chest | NI | C
33507 | Repair art, intramural | NI | C
33548 | Restore/remodel, ventricle | NI | C
33768 | Cavopulmonary shunting | NI | C
33880 | Endovasc taa repr incl subcl | NI | C
33881 | Endovasc taa repr w/o subcl | NI | C
33883 | Insert endovasc prosth, taa | NI | C
33884 | Endovasc prosth, taa, add-on | NI | C
33886 | Endovasc prosth, delayed | NI | C
33889 | Artery transpose/endovas taa | NI | C
33891 | Car-car bp grft/endovas taa | NI | C
33925 | Rpr pul art unifocal w/o cpb | NI | C
33926 | Repr pul art, unifocal w/cpb | NI | C
43770 | Lap, place gastr adjust band | NI | C
43771 | Lap, revise adjust gast band | NI | C
43772 | Lap, remove adjust gast band | NI | C
43773 | Lap, change adjust gast band | NI | C
43774 | Lap remov adj gast band/port | NI | C
44187 | Lap, ileo/jejuno-stomy | NI | C
44188 | Lap, colostomy | NI | C
44227 | Lap, close enterostomy | NI | C
45395 | Lap, removal of rectum | NI | C
45397 | Lap, remove rectum w/pouch | NI | C
45400 | Laparoscopic proctopexy | NI | C
45402 | Lap proctopexy w/sig resect | NI | C
46710 | Repr per/vag pouch sngl proc | NI | C
46712 | Repr per/vag pouch dbl proc | NI | C
50250 | Cryoablate renal mass open | NI | C
61630 | Intracranial angioplasty | NI | B
61635 | Intracran angioplsty w/stent | NI | B
61640 | Dilate ic vasospasm, init | NI | B
61641 | Dilate ic vasospasm add-on | NI | B
61642 | Dilate ic vasospasm add-on | NI | B
75956 | Xray, endovasc thor ao repr | NI | C
75957 | Xray, endovasc thor ao repr | NI | C
75958 | Xray, place prox ext thor ao | NI | C
75959 | Xray, place dist ext thor ao | NI | C
80195 | Assay of sirolimus | NI | A
82271 | Occult blood, feces, single | NI | A
82272 | Blood occult peroxidase | NI | A
83037 | Glycosylated hb, home device | NI | A
83631 | Lactoferrin, fecal (quant) | NI | A
83695 | Assay of lipoprotein(a) | NI | A
83700 | Lipopro bld, electrophoretic | NI | A
83701 | Lipoprotein bld, hr fraction | NI | A
83704 | Lipoprotein, bld, by nmr | NI | A
83900 | Molecule nucleic ampli 2 seq | NI | A
83907 | Lyse cells for nucleic ext | NI | A
83908 | Nucleic acid, signal ampli | NI | A
83909 | Nucleic acid, high resolute | NI | A
83914 | Mutation ident ola/sbce/aspe | NI | A
86200 | Ccp antibody | NI | A
86355 | B cells, total count | NI | A
86357 | Nk cells, total count | NI | A
86367 | Stem cells, total count | NI | A
86480 | Tb test, cell immun measure | NI | A
87209 | Smear, complex stain | NI | A
87900 | Phenotype, infect agent drug | NI | A
90649 | H papilloma vacc 3 dose im | NI | E
90736 | Zoster vacc, sc | NI | E
90760 | Hydration iv infusion, init | NI | B
90761 | Hydrate iv infusion, add-on | NI | B
90765 | Ther/proph/diag iv inf, init | NI | B
90766 | Ther/proph/dg iv inf, add-on | NI | B
90767 | Tx/proph/dg addl seq iv inf | NI | B
90768 | Ther/diag concurrent inf | NI | B
90774 | Ther/proph/diag inj, iv push | NI | B
90775 | Ther/proph/diag inj add-on | NI | B
92630 | Aud rehab pre-ling hear loss | NI | E
92633 | Aud rehab postling hear loss | NI | E
95251 | Gluc monitor, cont, phys i&r | NI | B
96409 | Chemo, iv push, sngl drug | NI | B
96411 | Chemo, iv push, addl drug | NI | B
96413 | Chemo, iv infusion, 1 hr | NI | B
96415 | Chemo, iv infusion, addl hr | NI | B
96417 | Chemo iv infus each addl seq | NI | B
97760 | Orthotic mgmt and training | NI | A
97761 | Prosthetic training | NI | A
97762 | C/o for orthotic/prosth use | NI | A
98960 | Self-mgmt educ & train, 1 pt | NI | E
98961 | Self-mgmt educ/train, 2-4 pt | NI | E
98962 | Self-mgmt educ/train, 5-8 pt | NI | E
99051 | Med serv, eve/wkend/holiday | NI | B
99053 | Med serv 10pm-8am, 24 hr fac | NI | B
99060 | Out of office emerg med serv | NI | B
99304 | Nursing facility care, init | NI | B
99305 | Nursing facility care, init | NI | B
99306 | Nursing facility care, init | NI | B
99307 | Nursing fac care, subseq | NI | B
99308 | Nursing fac care, subseq | NI | B
99309 | Nursing fac care, subseq | NI | B
99310 | Nursing fac care, subseq | NI | B
99318 | Annual nursing fac assessmnt | NI | B
99324 | Domicil/r-home visit new pat | NI | B
99325 | Domicil/r-home visit new pat | NI | B
99326 | Domicil/r-home visit new pat | NI | B
99327 | Domicil/r-home visit new pat | NI | B
99328 | Domicil/r-home visit new pat | NI | B
99334 | Domicil/r-home visit est pat | NI | B
99335 | Domicil/r-home visit est pat | NI | B
99336 | Domicil/r-home visit est pat | NI | B
99337 | Domicil/r-home visit est pat | NI | B
99339 | Domicil/r-home care supervis | NI | B
99340 | Domicil/r-home care supervis | NI | B
0090T | Cervical artific disc | NI | C
0091T | Lumbar artific disc | NI | C
0092T | Artific disc addl | NI | C
0093T | Cervical artific diskectomy | NI | C
0094T | Lumbar artific diskectomy | NI | C
0095T | Artific diskectomy addl | NI | C
0096T | Rev cervical artific disc | NI | C
0097T | Rev lumbar artific disc | NI | C
0098T | Rev artific disc addl | NI | C
0103T | Holotranscobalamin | NI | A
0104T | At rest cardio gas rebreathe | NI | A
0105T | Exerc cardio gas rebreathe | NI | A
0111T | Rbc membranes fatty acids | NI | A
0115T | Med tx mngmt 15 min | NI | B
0116T | Med tx mngmt subsqt | NI | B
0117T | Med tx mngmt addl 15 min | NI | B
0130T | Chron care drug investigatn | NI | B
0140T | Exhaled breath condensate ph | NI | A
0141T | Perq islet transplant | NI | E
0142T | Open islet transplant | NI | E
0143T | Laparoscopic islet transplnt | NI | E
0153T | Implant aneur sensor add-on | NI | C
1003F | Level of activity assess | NI | E
1004F | Clin symp vol ovrld assess | NI | E
1005F | Asthma symptoms evaluate | NI | E
1006F | Osteoarthritis assess | NI | E
1007F | Anti-inflm/anlgsc otc assess | NI | E
1008F | Gi/renal risk assess | NI | E
2000F | Blood pressure measure | NI | E
2001F | Weight record | NI | E
2002F | Clin sign vol ovrld assess | NI | E
2003F | Auscultation heart perform | NI | E
2004F | Initial exam involved joints | NI | E
3000F | Blood press </= 140/90 mmhg | NI | E
3002F | Blood pressure > 140/90 mmhg | NI | E
4003F | Pt ed write/oral, pts w/ hf | NI | E
4012F | Warfarin therapy rx | NI | E
4014F | Written discharge instr prvd | NI | E
4015F | Persist asthma medicine ctrl | NI | E
4016F | Anti-inflm/anlgsc agent rx | NI | E
4017F | Gi prophylaxis for nsaid rx | NI | E
4018F | Therapy exercise joint rx | NI | E
A0998 | Ambulance response/treatment | NI | E
A4233 | Alkalin batt for glucose mon | NI | Y
A4234 | J-cell batt for glucose mon | NI | Y
A4235 | Lithium batt for glucose mon | NI | Y
A4236 | Silvr oxide batt glucose mon | NI | Y
A4363 | Ostomy clamp, replacement | NI | A
A4411 | Ost skn barr extnd =4 sq | NI | A
A4412 | Ost pouch drain high output | NI | A
A4604 | Tubing with heating element | NI | Y
A5120 | Skin barrier, wipe or swab | NI | A
A5512 | Multi den insert direct form | NI | B
A5513 | Multi den insert custom mold | NI | B
A6457 | Tubular dressing | NI | A
A6513 | Compress burn mask face/neck | NI | B
A6530 | Compression stocking BK18-30 | NI | E
A6531 | Compression stocking BK30-40 | NI | A
A6532 | Compression stocking BK40-50 | NI | A
A6533 | Gc stocking thighlngth 18-30 | NI | E
A6534 | Gc stocking thighlngth 30-40 | NI | E
A6535 | Gc stocking thighlngth 40-50 | NI | E
A6536 | Gc stocking full lngth 18-30 | NI | E
A6537 | Gc stocking full lngth 30-40 | NI | E
A6538 | Gc stocking full lngth 40-50 | NI | E
A6539 | Gc stocking waistlngth 18-30 | NI | E
A6540 | Gc stocking waistlngth 30-40 | NI | E
A6541 | Gc stocking waistlngth 40-50 | NI | E
A6542 | Gc stocking custom made | NI | E
A6543 | Gc stocking lymphedema | NI | E
A6544 | Gc stocking garter belt | NI | E
A6549 | G compression stocking | NI | E
A9275 | Disp home glucose monitor | NI | E
A9281 | Reaching/grabbing device | NI | E
A9282 | Wig any type | NI | E
B4185 | Parenteral sol 10 gm lipids | NI | B
E0170 | Commode chair electric | NI | Y
E0171 | Commode chair non-electric | NI | Y
E0172 | Seat lift mechanism toilet | NI | E
E0485 | Oral device/appliance prefab | NI | Y
E0486 | Oral device/appliance cusfab | NI | Y
E0641 | Multi-position stnd fram sys | NI | E
E0642 | Dynamic standing frame | NI | E
E0705 | Transfer board or device | NI | B
E0762 | Trans elec jt stim dev sys | NI | B
E0764 | Functional neuromuscularstim | NI | Y
E0911 | HD trapeze bar attach to bed | NI | Y
E0912 | HD trapeze bar free standing | NI | Y
E1392 | Portable oxygen concentrator | NI | Y
E1812 | Knee ext/flex w act res ctrl | NI | Y
E2207 | Crutch and cane holder | NI | Y
E2208 | Cylinder tank carrier | NI | Y
E2209 | Arm trough each | NI | Y
E2210 | Wheelchair bearings | NI | Y
E2211 | Pneumatic propulsion tire | NI | Y
E2212 | Pneumatic prop tire tube | NI | Y
E2213 | Pneumatic prop tire insert | NI | Y
E2214 | Pneumatic caster tire each | NI | Y
E2215 | Pneumatic caster tire tube | NI | Y
E2216 | Foam filled propulsion tire | NI | Y
E2217 | Foam filled caster tire each | NI | Y
E2218 | Foam propulsion tire each | NI | Y
E2219 | Foam caster tire any size ea | NI | Y
E2220 | Solid propulsion tire each | NI | Y
E2221 | Solid caster tire each | NI | Y
E2222 | Solid caster integrated whl | NI | Y
E2223 | Valve replacement only each | NI | Y
E2224 | Propulsion whl excludes tire | NI | Y
E2225 | Caster wheel excludes tire | NI | Y
E2226 | Caster fork replacement only | NI | Y
E2371 | Gr27 sealed leadacid battery | NI | Y
E2372 | Gr27 non-sealed leadacid | NI | Y
G0333 | Dispense fee initial 30 day | NI | M
G0372 | MD service required for PMD | NI | M
G8006 | AMI pt recd aspirin at arriv | NI | M
G8007 | AMI pt did not receiv aspiri | NI | M
G8008 | AMI pt ineligible for aspiri | NI | M
G8009 | AMI pt recd Bblock at arr | NI | M
G8010 | AMI pt did not rec bblock | NI | M
G8011 | AMI pt inelig Bbloc at arriv | NI | M
G8012 | Pneum pt recv antibiotic 4 h | NI | M
G8013 | Pneum pt w/o antibiotic 4 hr | NI | M
G8014 | Pneum pt not elig antibiotic | NI | M
G8015 | Diabetic pt w/ HBA1c>9% | NI | M
G8016 | Diabetic pt w/ HBA1c < or = 9% | NI | M
G8017 | DM pt inelig for HBA1c measu | NI | M
G8018 | Care not provided for HbA1c | NI | M
G8019 | Diabetic pt w/LDL> 100mg/dl | NI | M
G8020 | Diab pt w/LDL < or = 100mg/dl | NI | M
G8021 | Diab pt inelig for LDL meas | NI | M
G8022 | Care not provided for LDL | NI | M
G8023 | DM pt w BP> 140/80 | NI | M
G8024 | Diabetic pt wBP< 140/80 | NI | M
G8025 | Diabetic pt inelig for BP me | NI | M
G8026 | Diabet pt w no care re BP me | NI | M
G8027 | HF p w/LVSD on ACE-I/ARB | NI | M
G8028 | HF pt w/LVSD not on ACE-I/AR | NI | M
G8029 | HF pt not elig for ACE-I/ARB | NI | M
G8030 | HF pt w/LVSD on Bblocker | NI | M
G8031 | HF pt w/LVSD not on Bblocker | NI | M
G8032 | HF pt not elig for Bblocker | NI | M
G8033 | AMI-CAD pt on Bblocker | NI | M
G8034 | AMI-CAD pt not on Bblocker | NI | M
G8035 | AMI-CAD pt inelig Bblocker | NI | M
G8036 | AMI-CAD pt doc on antiplatel | NI | M
G8037 | AMI-CAD pt not docu on antip | NI | M
G8038 | AMI-CAD inelig antiplate mea | NI | M
G8039 | CAD pt w/LDL>100mg/dl | NI | M
G8040 | CAD pt w/LDL< or = 100mg/dl | NI | M
G8041 | CAD pt not eligible for LDL | NI | M
G8051 | Osteoporosis assess | NI | M
G8052 | Osteopor pt not assess | NI | M
G8053 | Pt inelig for osteopor meas | NI | M
G8055 | Falls assess w/ 12 mon | NI | M
G8056 | Not elig for falls assessmen | NI | M
G8057 | Hearing assess receive | NI | M
G8058 | Pt w/o hearing assess | NI | M
G8059 | Pt inelig for hearing assess | NI | M
G8060 | Urinary incont pt assess | NI | M
G8061 | Pt not assess for urinary in | NI | M
G8062 | Pt not elig for urinary inco | NI | M
G8075 | ESRD pt w/ dialy of URR> 65% | NI | M
G8076 | ESRD pt w/ dialy of URR< 65% | NI | M
G8077 | ESRD pt not elig for URR/KtV | NI | M
G8078 | ESRD pt w/Hct> or = 33 | NI | M
G8079 | ESRD pt w/Hct< 33 | NI | M
G8080 | ESRD pt inelig for HCT/Hgb | NI | M
G8081 | ESRD pt w/ auto AV fistula | NI | M
G8082 | ESRD pt w other fistula | NI | M
G8093 | COPD pt rec smoking cessat | NI | M
G8094 | COPD pt w/o smoke cessat int | NI | M
G8099 | Osteopo pt given Ca+VitD sup | NI | M
G8100 | Osteop pt inelig for Ca+VitD | NI | M
G8103 | New dx osteo pt w/antiresorp | NI | M
G8104 | Osteo pt inelig for antireso | NI | M
G8106 | Bone dens meas test perf | NI | M
G8107 | Bone dens meas test inelig | NI | M
G8108 | Pt receiv influenza vacc | NI | M
G8109 | Pt w/o influenza vacc | NI | M
G8110 | Pt inelig for influenza vacc | NI | M
G8111 | Pt receiv mammogram | NI | M
G8112 | Pt not doc mammogram | NI | M
G8113 | Pt ineligible mammography | NI | M
G8114 | Care not provided for mamogr | NI | M
G8115 | Pt receiv pneumo vacc | NI | M
G8116 | Pt did not rec pneumo vacc | NI | M
G8117 | Pt was inelig for pneumo vac | NI | M
G8126 | Pt treat w antidepress 12wks | NI | M
G8127 | Pt not treat w/antidepres 12w | NI | M
G8128 | Pt inelig for antidepres med | NI | M
G8129 | Pt treat w/antidepres for 6m | NI | M
G8130 | Pt not treat w/antidepres 6m | NI | M
G8131 | Pt inelig for antidepres med | NI | M
G8152 | Pt w/AB 1 hr prior to incisi | NI | M
G8153 | Pt not doc for AB 1 hr prior | NI | M
G8154 | Pt ineligi for AB therapy | NI | M
G8155 | Pt recd thromboemb prophylax | NI | M
G8156 | Pt did not rec thromboembo | NI | M
G8157 | Pt ineligi for thrombolism | NI | M
G8158 | Pt recd CABG w/ IMA | NI | M
G8159 | Pt w/CABG w/o IMA | NI | M
G8160 | Pt inelig for CABG w/IMA | NI | M
G8161 | Iso CABG pt rec preop bblock | NI | M
G8162 | Iso CABG pt w/o preop Bblock | NI | M
G8163 | Iso CABG pt inelig for preo | NI | M
G8164 | Iso CABG pt w/prolng intub | NI | M
G8165 | Iso CABG pt w/o prolng intub | NI | M
G8166 | Iso CABG req surg rexpo | NI | M
G8167 | Iso CABG w/o surg explo | NI | M
G8170 | CEA/ext bypass pt on aspirin | NI | M
G8171 | Pt w/carot endarct/ext bypas | NI | M
G8172 | CEA/ext bypass pt not on asp | NI | M
G8182 | CAD pt care not prov LDL | NI | M
G8183 | HF/atrial fib pt on warfarin | NI | M
G8184 | HF/atrial fib pt inelig warf | NI | M
G8185 | Osteoarth pt w/ assess pain | NI | M
G8186 | Osteoarth pt inelig assess | NI | M
J0882 | Darbepoetin alfa, esrd use | NI | B
J0886 | Epoetin alfa, esrd | NI | B
J1675 | Histrelin acetate | NI | B
J7306 | Levonorgestrel implant sys | NI | E
J7341 | Non-human, metabolic tissue | NI | K | 1707 |  | 1.01 |  | 0.20
J7620 | Albuterol non-compounded | NI | B
J7627 | Budesonide, compounded | NI | B
J8498 | Antiemetic rectal/supp NOS | NI | B
J8515 | Cabergoline, oral 0.25mg | NI | E
J8540 | Oral dexamethasone | NI | K | 1708 |  | 0.22 |  | 0.04
L0491 | TLSO 2 piece rigid shell | NI | A
L0492 | TLSO 3 piece rigid shell | NI | A
L0621 | SIO flex pelvisacral prefab | NI | A
L0622 | SIO flex pelvisacral custom | NI | A
L0623 | SIO panel prefab | NI | A
L0624 | SIO panel custom | NI | A
L0625 | LO flexibl L1-below L5 pre | NI | A
L0626 | LO sag stays/panels pre-fab | NI | A
L0627 | LO sagitt rigid panel prefab | NI | A
L0628 | LO flex w/o rigid stays pre | NI | A
L0629 | LSO flex w/rigid stays cust | NI | A
L0630 | LSO post rigid panel pre | NI | A
L0631 | LSO sag-coro rigid frame pre | NI | A
L0632 | LSO sag rigid frame cust | NI | A
L0633 | LSO flexion control prefab | NI | A
L0634 | LSO flexion control custom | NI | A
L0635 | LSO sagit rigid panel prefab | NI | A
L0636 | LSO sagittal rigid panel cus | NI | A
L0637 | LSO sag-coronal panel prefab | NI | A
L0638 | LSO sag-coronal panel custom | NI | A
L0639 | LSO s/c shell/panel prefab | NI | A
L0640 | LSO s/c shell/panel custom | NI | A
L0859 | MRI compatible system | NI | A
L3671 | SO cap design w/o jnts CF | NI | A
L3672 | SO airplane w/o jnts CF | NI | A
L3673 | SO airplane w/joint CF | NI | A
L3702 | EO w/o joints CF | NI | A
L3763 | EWHO rigid w/o jnts CF | NI | A
L3764 | EWHO w/joint(s) CF | NI | A
L3765 | EWHFO rigid w/o jnts CF | NI | A
L3766 | EWHFO w/joint(s) CF | NI | A
L3905 | WHO w/nontorsion jnt(s) CF | NI | A
L3913 | HFO w/o joints CF | NI | A
L3919 | HO w/o joints CF | NI | A
L3921 | HFO w/joint(s) CF | NI | A
L3933 | FO w/o joints CF | NI | A
L3935 | FO nontorsion joint CF | NI | A
L3961 | SEWHO cap design w/o jnts CF | NI | A
L3967 | SEWHO airplane w/o jnts CF | NI | A
L3971 | SEWHO cap design w/jnt(s) CF | NI | A
L3973 | SEWHO airplane w/jnt(s) CF | NI | A
L3975 | SEWHFO cap design w/o jnt CF | NI | A
L3976 | SEWHFO airplane w/o jnts CF | NI | A
L3977 | SEWHFO cap desgn w/jnt(s) CF | NI | A
L3978 | SEWHFO airplane w/jnt(s) CF | NI | A
L5703 | Symes ankle w/o (SACH) foot | NI | A
L5858 | Stance phase only | NI | A
L5971 | SACH foot, replacement | NI | A
L6621 | Flex/ext wrist w/wo friction | NI | A
L6677 | UE triple control harness | NI | A
L6883 | Replc sockt below e/w disa | NI | A
L6884 | Replc sockt above elbow disa | NI | A
L6885 | Replc sockt shldr dis/interc | NI | A
L7400 | Add UE prost be/wd, ultlite | NI | A
L7401 | Add UE prost a/e ultlite mat | NI | A
L7402 | Add UE prost s/d ultlite mat | NI | A
L7403 | Add UE prost b/e acrylic | NI | A
L7404 | Add UE prost a/e acrylic | NI | A
L7405 | Add UE prost s/d acrylic | NI | A
L7600 | Prosthetic donning sleeve | NI | A
L8623 | Lith ion batt CID, non-earlvl | NI | A
L8624 | Lith ion batt CID, ear level | NI | A
L8680 | Implt neurostim elctr each | NI | B
L8681 | Pt prgrm for implt neurostim | NI | A
L8683 | Radiofq trsmtr for implt neu | NI | A
L8684 | Radiof trsmtr implt scrl neu | NI | A
L8685 | Implt nrostm pls gen sng rec | NI | B
L8686 | Implt nrostm pls gen sng non | NI | B
L8687 | Implt nrostm pls gen dua rec | NI | B
L8688 | Implt nrostm pls gen dua non | NI | B
L8689 | External recharging system | NI | A
Q0510 | Dispens fee immunosupressive | NI | B
Q0511 | Sup fee antiem, antica, immuno | NI | B
Q0512 | Px sup fee anti-can sub pres | NI | M
Q0513 | Disp fee inhal drugs/30 days | NI | B
Q0514 | Disp fee inhal drugs/90 days | NI | B
V2788 | Presbyopia-correct function | NI | E

D. Corrections to Addendum L

Addendum L represents all hospitals that are eligible to have their wage index increased by the out-migration adjustment. In the final rule with comment period, we inadvertently did not list all hospitals eligible for the adjustment. We correct this in this notice by replacing Addendum L in its entirety; however we retain the footnote language as published in the final rule.

Addendum L.—Out-Migration Wage Adjustment CY 2006 ¹
Provider no. | Redesignation indicator | Out-migration adjustment | Qualifying county name
010005 |  | 0.0259 | Marshall.
010008 | * | 0.0212 | Crenshaw.
010009 |  | 0.0092 | Morgan.
010010 |  | 0.0259 | Marshall.
010012 | * | 0.0205 | De Kalb.
010022 | * | 0.0714 | Cherokee.
010025 | * | 0.0235 | Chambers.
010029 | * | 0.0107 | Lee.
010035 | * | 0.0375 | Cullman.
010038 |  | 0.0062 | Calhoun.
010045 | * | 0.0160 | Fayette.
010047 |  | 0.0155 | Butler.
010054 |  | 0.0092 | Morgan.
010061 |  | 0.0506 | Jackson.
010072 | * | 0.0310 | Talladega.
010078 |  | 0.0062 | Calhoun.
010083 | * | 0.0121 | Baldwin.
010085 |  | 0.0092 | Morgan.
010100 | * | 0.0121 | Baldwin.
010101 | * | 0.0310 | Talladega.
010109 |  | 0.0451 | Pickens.
010115 |  | 0.0093 | Franklin.
010129 |  | 0.0121 | Baldwin.
010143 | * | 0.0375 | Cullman.
010146 |  | 0.0062 | Calhoun.
010150 | * | 0.0155 | Butler.
010158 | * | 0.0093 | Franklin.
010164 | * | 0.0310 | Talladega.
013027 |  | 0.0121 | Baldwin.
014008 |  | 0.0121 | Baldwin.
014009 |  | 0.0092 | Morgan.
040014 | * | 0.0159 | White.
040019 | * | 0.0697 | St. Francis.
010047 | * | 0.0090 | Randolph.
010069 | * | 0.0140 | Mississippi.
010071 |  | 0.0026 | Jefferson.
040076 | * | 0.1075 | Hot Spring.
040100 | * | 0.0159 | White.
042007 |  | 0.0026 | Jefferson.
050008 |  | 0.0026 | San Francisco
050009 | * | 0.0478 | NAPA.
050013 | * | 0.0478 | NAPA.
050014 | * | 0.0131 | Amador.
050016 |  | 0.0103 | San Luis Obispo.
050042 | * | 0.0219 | Tehama.
050046 |  | 0.0156 | Ventura.
050047 |  | 0.0026 | San Francisco.
050055 |  | 0.0026 | San Francisco.
050065 | * | 0.0029 | Orange.
050069 | * | 0.0029 | Orange.
050073 | * | 0.0269 | Solano.
050076 | * | 0.0026 | San Francisco.
050082 |  | 0.0156 | Ventura.
050084 |  | 0.0555 | San Joaquin.
050089 | * | 0.0152 | San Bernardino.
050090 | * | 0.0308 | Sonoma.
050099 | * | 0.0152 | San Bernardino.
050101 |  | 0.0269 | Solano.
050117 |  | 0.0463 | Merced.
050118 | * | 0.0555 | San Joaquin.
050122 |  | 0.0555 | San Joaquin.
050129 | * | 0.0152 | San Bernardino.
050133 |  | 0.0170 | Yuba.
050136 | * | 0.0308 | Sonoma.
050140 | * | 0.0152 | San Bernardino.
050150 | * | 0.0316 | Nevada
050152 |  | 0.0026 | San Francisco.
050159 |  | 0.0156 | Ventura.
050167 |  | 0.0555 | San Joaquin.
050168 | * | 0.0029 | Orange.
050173 | * | 0.0029 | Orange.
050174 | * | 0.0308 | Sonoma.
050177 |  | 0.0156 | Ventura.
050193 | * | 0.0029 | Orange.
050224 | * | 0.0029 | Orange.
050226 | * | 0.0029 | Orange.
050228 | * | 0.0026 | San Francisco.
050230 | * | 0.0029 | Orange.
050232 |  | 0.0103 | San Luis Obispo.
050236 |  | 0.0156 | Ventura.
050245 | * | 0.0152 | San Bernardino.
050272 | * | 0.0152 | San Bernardino.
050279 | * | 0.0152 | San Bernardino.
050291 | * | 0.0308 | Sonoma.
050298 | * | 0.0152 | San Bernardino.
050300 | * | 0.0152 | San Bernardino.
050313 |  | 0.0555 | San Joaquin.
050325 |  | 0.0176 | Tuolumne.
050327 | * | 0.0152 | San Bernardino.
050331 | * | 0.0308 | Sonoma.
050335 |  | 0.0176 | Tuolumne.
050336 |  | 0.0555 | San Joaquin.
050348 | * | 0.0029 | Orange.
050367 |  | 0.0269 | Solano.
050385 | * | 0.0308 | Sonoma.
050394 |  | 0.0156 | Ventura.
050407 |  | 0.0026 | San Francisco.
050426 | * | 0.0029 | Orange.
050444 |  | 0.0463 | Merced.
050454 |  | 0.0026 | San Francisco.
050457 |  | 0.0026 | San Francisco.
050469 | * | 0.0152 | San Bernardino.
050476 |  | 0.0257 | Lake.
050494 | * | 0.0316 | Nevada.
050506 |  | 0.0103 | San Luis Obispo.
050517 |  | 0.0152 | San Bernardino.
050526 | * | 0.0029 | Orange.
050528 | * | 0.0463 | Merced.
050535 | * | 0.0029 | Orange.
050539 |  | 0.0257 | Lake.
050543 | * | 0.0029 | Orange.
050547 | * | 0.0308 | Sonoma.
050548 | * | 0.0029 | Orange.
050549 | * | 0.0156 | Ventura.
050550 | * | 0.0029 | Orange.
050551 | * | 0.0029 | Orange.
050567 | * | 0.0029 | Orange.
050568 |  | 0.0062 | Madera.
050570 | * | 0.0029 | Orange.
050580 | * | 0.0029 | Orange.
050584 | * | 0.0152 | San Bernardino.
050585 | * | 0.0029 | Orange.
050586 | * | 0.0152 | San Bernardino.
050589 | * | 0.0029 | Orange.
050592 | * | 0.0029 | Orange.
050594 | * | 0.0029 | Orange.
050603 | * | 0.0029 | Orange.
050609 | * | 0.0029 | Orange.
050616 |  | 0.0156 | Ventura.
050618 | * | 0.0152 | San Bernardino.
050633 |  | 0.0103 | San Luis Obispo.
050667 | * | 0.0478 | Napa.
050668 | * | 0.0026 | San Francisco.
050678 | * | 0.0029 | Orange.
050680 |  | 0.0269 | Solano.
050690 | * | 0.0308 | Sonoma.
050693 | * | 0.0029 | Orange.
050695 |  | 0.0555 | San Joaquin.
050720 | * | 0.0029 | Orange.
050728 | * | 0.0308 | Sonoma.
050731 |  | 0.0152 | San Bernardino.
052035 |  | 0.0029 | Orange.
052037 |  | 0.0152 | San Bernardino.
052039 |  | 0.0029 | Orange.
052040 |  | 0.0152 | San Bernardino.
053034 |  | 0.0029 | Orange.
053037 |  | 0.0152 | San Bernardino.
053304 |  | 0.0029 | Orange.
053306 |  | 0.0029 | Orange.
053308 |  | 0.0029 | Orange.
054020 |  | 0.0026 | San Francisco.
054074 |  | 0.0269 | Solano.
054077 |  | 0.0156 | Ventura.
054089 |  | 0.0026 | San Francisco.
054093 |  | 0.0152 | San Bernardino.
054106 |  | 0.0156 | Ventura.
054111 |  | 0.0152 | San Bernardino.
054122 |  | 0.0478 | Napa.
054123 |  | 0.0555 | San Joaquin.
054135 |  | 0.0029 | Orange.
054141 |  | 0.0269 | Solano.
054144 |  | 0.0026 | San Francisco.
060001 | * | 0.0294 | Weld.
060003 | * | 0.0203 | Boulder.
060027 | * | 0.0203 | Boulder.
060103 | * | 0.0203 | Boulder.
064007 |  | 0.0203 | Boulder.
070003 | * | 0.0009 | Windham.
070006 | * | 0.0047 | Fairfield.
070010 | * | 0.0047 | Fairfield.
070018 | * | 0.0047 | Fairfield.
070020 |  | 0.0073 | Middlesex.
070021 | * | 0.0009 | Windham.
070028 | * | 0.0047 | Fairfield.
070033 | * | 0.0047 | Fairfield.
070034 | * | 0.0047 | Fairfield.
073026 |  | 0.0009 | Windham.
074000 |  | 0.0047 | Fairfield.
074003 |  | 0.0073 | Middlesex.
074008 |  | 0.0009 | Windham.
074012 |  | 0.0047 | Fairfield.
074014 |  | 0.0047 | Fairfield.
080001 |  | 0.0063 | New Castle.
080003 |  | 0.0063 | New Castle.
082000 |  | 0.0063 | New Castle.
083300 |  | 0.0063 | New Castle.
084001 |  | 0.0063 | New Castle.
084002 |  | 0.0063 | New Castle.
084003 |  | 0.0063 | New Castle.
100014 |  | 0.0118 | Volusia.
100017 |  | 0.0118 | Volusia.
100045 | * | 0.0118 | Volusia.
100047 |  | 0.0021 | Charlotte.
100062 |  | 0.0060 | Marion.
100068 |  | 0.0118 | Volusia.
100072 |  | 0.0118 | Volusia.
100077 |  | 0.0021 | Charlotte.
100102 |  | 0.0125 | Columbia.
100118 | * | 0.0398 | Flagler.
100156 |  | 0.0125 | Columbia.
100175 |  | 0.0231 | De Soto.
100212 |  | 0.0060 | Marion.
100232 |  | 0.0347 | Putnam.
100236 |  | 0.0021 | Charlotte.
100252 | * | 0.0233 | Okeechobee.
100290 |  | 0.0582 | Sumter.
110023 | * | 0.0500 | Gordon.
110027 |  | 0.0387 | Franklin.
110029 | * | 0.0063 | Hall.
110041 | * | 0.0777 | Habersham.
110069 | * | 0.0474 | Houston.
110124 |  | 0.0428 | Wayne.
110136 |  | 0.0261 | Baldwin.
110150 | * | 0.0261 | Baldwin.
110153 | * | 0.0474 | Houston.
110187 | * | 0.1172 | Lumpkin.
110189 | * | 0.0031 | Fannin.
110190 |  | 0.0182 | Macon.
110205 | * | 0.0779 | Gilmer.
114018 |  | 0.0261 | Baldwin.
130003 | * | 0.0095 | Nez Perce.
130024 |  | 0.0275 | Bonner.
130049 | * | 0.0349 | Kootenai.
130066 |  | 0.0349 | Kootenai.
140012 | * | 0.0220 | Lee.
140026 |  | 0.0346 | La Salle.
140033 |  | 0.0147 | Lake.
140043 | * | 0.0046 | Whiteside.
140058 | * | 0.0081 | Morgan.
140084 |  | 0.0147 | Lake.
140100 |  | 0.0147 | Lake.
140110 | * | 0.0346 | La Salle.
140130 |  | 0.0147 | Lake.
140155 |  | 0.0027 | Kankakee.
140160 | * | 0.0286 | Stephenson.
140161 | * | 0.0138 | Livingston.
140186 |  | 0.0027 | Kankakee.
140202 |  | 0.0147 | Lake.
140205 |  | 0.0163 | Boone.
140234 | * | 0.0346 | La Salle.
140291 | * | 0.0147 | Lake.
150022 |  | 0.0249 | Montgomery.
150030 | * | 0.0201 | Henry.
150035 |  | 0.0083 | Porter.
150045 |  | 0.0416 | De Kalb.
150060 |  | 0.0051 | Vermillion.
150062 |  | 0.0153 | Decatur.
150065 | * | 0.0139 | Jackson.
150076 | * | 0.0189 | Marshall.
150088 | * | 0.0196 | Madison.
150091 |  | 0.0573 | Huntington.
150102 | * | 0.0160 | Starke.
150113 | * | 0.0196 | Madison.
150122 |  | 0.0199 | Ripley.
154047 |  | 0.0189 | Marshall.
154050 |  | 0.0416 | De Kalb.
160013 |  | 0.0218 | Muscatine.
160026 | * | 0.0496 | Boone.
160030 |  | 0.0040 | Story.
160032 |  | 0.0272 | Jasper.
160080 | * | 0.0049 | Clinton.
170137 | * | 0.0336 | Douglas.
180012 | * | 0.0083 | Hardin.
180066 | * | 0.0567 | Logan.
180127 | * | 0.0352 | Franklin.
180128 |  | 0.0282 | Lawrence.
183028 |  | 0.0083 | Hardin.
184012 |  | 0.0083 | Hardin.
190001 | * | 0.0645 | Washington.
190003 | * | 0.0107 | Iberia.
190010 |  | 0.0401 | Tangipahoa.
190015 | * | 0.0401 | Tangipahoa.
190017 |  | 0.0235 | St. Landry.
190054 |  | 0.0107 | Iberia.
190078 |  | 0.0235 | St. Landry.
190088 |  | 0.0705 | Webster.
190099 | * | 0.0390 | Avoyelles.
190106 | * | 0.0238 | Allen.
190133 |  | 0.0238 | Allen.
190144 |  | 0.0705 | Webster.
190184 |  | 0.0161 | Caldwell.
190190 |  | 0.0161 | Caldwell.
190191 | * | 0.0235 | St. Landry.
190246 |  | 0.0161 | Caldwell.
192034 |  | 0.0235 | St. Landry.
192036 |  | 0.0401 | Tangipahoa.
192040 |  | 0.0401 | Tangipahoa.
192046 |  | 0.0645 | Washington.
193044 |  | 0.0401 | Tangipahoa.
193055 |  | 0.0161 | Caldwell.
193063 |  | 0.0401 | Tngipahoa.
193068 |  | 0.0401 | Tangipahoa.
193073 |  | 0.0235 | St. Landry.
193091 |  | 0.0107 | Iberia.
194047 |  | 0.0705 | Webster.
200002 | * | 0.0129 | Lincoln.
200013 |  | 0.0186 | Waldo.
200024 | * | 0.0071 | Androscoggin.
200032 |  | 0.0466 | Oxford.
200034 | * | 0.0071 | Androscoggin.
200050 | * | 0.0140 | Hancock.
210001 |  | 0.0129 | Washington.
210004 |  | 0.0040 | Montgomery.
210016 |  | 0.0040 | Montgomery.
210018 |  | 0.0040 | Montgomery.
210022 |  | 0.0040 | Montgomery.
210023 |  | 0.0209 | Ann Arundel.
210043 |  | 0.0209 | Ann Arundel.
210048 |  | 0.0287 | Howard.
210057 |  | 0.0040 | Montgomery.
212002 |  | 0.0129 | Washington.
213029 |  | 0.0040 | Montgomery.
214001 |  | 0.0209 | Ann Arundel.
214003 |  | 0.0129 | Washington.
214013 |  | 0.0040 | Montgomery.
220001 | * | 0.0056 | Worcester.
220002 |  | 0.0249 | Middlesex.
220003 | * | 0.0056 | Worcester.
220006 |  | 0.0306 | Essex.
220010 | * | 0.0306 | Essex.
220011 |  | 0.0249 | Middlesex.
220019 | * | 0.0056 | Worcester.
220025 | * | 0.0056 | Worcester.
220028 | * | 0.0056 | Worcester.
220029 | * | 0.0306 | Essex.
220033 | * | 0.0306 | Essex.
220035 | * | 0.0306 | Essex.
220049 |  | 0.0249 | Middlesex.
220058 | * | 0.0056 | Worcester.
220062 | * | 0.0056 | Worcester.
220063 |  | 0.0249 | Middlesex.
220070 |  | 0.0249 | Middlesex.
220080 | * | 0.0306 | Essex.
220082 |  | 0.0249 | Middlesex.
220084 |  | 0.0249 | Middlesex.
220089 |  | 0.0249 | Middlesex.
220090 | * | 0.0056 | Worcester.
220095 | * | 0.0056 | Worcester.
220098 |  | 0.0249 | Middlesex.
220101 |  | 0.0249 | Middlesex.
220105 |  | 0.0249 | Middlesex.
220163 | * | 0.0056 | Worcester.
220171 |  | 0.0240 | Middlesex.
220174 | * | 0.0306 | Essex.
222000 |  | 0.0249 | Middlesex.
222003 |  | 0.0249 | Middlesex.
222026 |  | 0.0306 | Essex.
222044 |  | 0.0306 | Essex.
222047 |  | 0.0306 | Essex.
222048 |  | 0.0056 | Worcester.
223026 |  | 0.0249 | Middlesex.
223028 |  | 0.0306 | Essex.
223029 |  | 0.0056 | Worcester.
223033 |  | 0.0056 | Worcester.
224007 |  | 0.0249 | Middlesex.
224002 |  | 0.0249 | Middlesex.
224026 |  | 0.0056 | Worcester.
224032 |  | 0.0056 | Worcester.
224033 |  | 0.0306 | Essex.
224038 |  | 0.0249 | Middlesex.
230003 | * | 0.0035 | Ottawa.
230013 | * | 0.0091 | Oakland.
230015 |  | 0.0359 | St. Joseph.
230019 | * | 0.0091 | Oakland.
230021 |  | 0.0136 | Berrien.
230022 | * | 0.0113 | Branch.
230029 | * | 0.0091 | Oakland.
230037 | * | 0.0178 | Hillsdale.
230041 |  | 0.0099 | Bay.
230042 | * | 0.0685 | Allegan.
230047 | * | 0.0082 | MACOMB.
230069 | * | 0.0487 | Livingston.
230071 | * | 0.0091 | Oakland.
230072 | * | 0.0035 | Ottawa.
230075 |  | 0.0145 | Calhoun.
230078 | * | 0.0136 | Berrien.
230092 |  | 0.0389 | Jackson.
230093 | * | 0.0079 | Mecosta.
230096 | * | 0.0359 | St. Joseph.
230099 | * | 0.0339 | Monroe.
230106 | * | 0.0030 | Newaygo.
230121 | * | 0.0691 | Shiawassee.
230130 | * | 0.0091 | Oakland.
230151 | * | 0.0091 | Oakland.
230174 | * | 0.0035 | Ottawa.
230184 |  | 0.0389 | Jackson.
230195 | * | 0.0082 | Macomb.
230204 | * | 0.0082 | Macomb.
230207 | * | 0.0091 | Oakland.
230217 | * | 0.0145 | Calhoun.
230222 |  | 0.0228 | Midland.
230223 | * | 0.0091 | Oakland.
230227 | * | 0.0082 | Macomb.
230254 | * | 0.0091 | Oakland.
230257 | * | 0.0082 | Macomb.
230264 | * | 0.0082 | Macomb.
230269 | * | 0.0091 | Oakland.
230277 | * | 0.0091 | Oakland.
230279 | * | 0.0487 | Livingston.
232020 |  | 0.0099 | Bay.
232023 |  | 0.0082 | Macomb.
232025 |  | 0.0136 | Berrien.
232028 |  | 0.0145 | Calhoun.
232034 |  | 0.0685 | Allegan.
232036 |  | 0.0389 | Jackson.
233025 |  | 0.0145 | Calhoun.
233028 |  | 0.0091 | Oakland.
233031 |  | 0.0082 | Macomb.
234011 |  | 0.0091 | Oakland.
234021 |  | 0.0082 | Macomb.
234023 |  | 0.0091 | Oakland.
234024 |  | 0.0082 | Macomb.
234037 |  | 0.0145 | Calhoun.
240013 | * | 0.0226 | Morrison.
240018 | * | 0.1196 | Goodhue.
240021 |  | 0.0920 | Le Sueur.
240044 |  | 0.0868 | Winona.
240064 | * | 0.0138 | Itasca.
240069 | * | 0.0419 | Steele.
240071 | * | 0.0454 | Rice.
240152 | * | 0.0735 | Kanabec.
240154 |  | 0.0138 | Itasca.
240187 | * | 0.0506 | Mc Leod.
240211 | * | 0.0705 | Pine.
250040 | * | 0.0294 | Jackson.
250045 |  | 0.0042 | Hancock.
254009 |  | 0.0294 | Jackson.
260011 |  | 0.0007 | Cole.
260025 | * | 0.0078 | Marion.
260047 | * | 0.0007 | Cole.
260074 | * | 0.0158 | Randolph.
260097 |  | 0.0425 | Johnson.
260127 |  | 0.0158 | Pike.
280054 |  | 0.0137 | Gage.
280077 | * | 0.0089 | Dodge.
280123 |  | 0.0137 | Gage.
290019 | * | 0.0026 | Carson City.
290049 |  | 0.0026 | Carson City.
293029 |  | 0.0026 | Carson City.
300011 | * | 0.0069 | Hillsborough.
300012 | * | 0.0069 | Hillsborough.
300017 |  | 0.0361 | Rockingham.
300020 | * | 0.0069 | Hillsborough.
300023 |  | 0.0361 | Rockingham.
300029 |  | 0.0361 | Rockingham.
300034 | * | 0.0069 | Hillsborough.
303026 |  | 0.0361 | Rockingham.
304001 |  | 0.0361 | Rockingham.
310002 | * | 0.0351 | Essex.
310009 | * | 0.0351 | Essex.
310010 |  | 0.0092 | Mercer.
310011 |  | 0.0115 | Cape May.
310013 | * | 0.0351 | Essex.
310018 | * | 0.0351 | Essex.
310021 | * | 0.0092 | Mercer.
310038 | * | 0.0350 | Middlesex.
310039 |  | 0.0350 | Middlesex.
310044 |  | 0.0092 | Mercer.
310054 | * | 0.0351 | Essex.
310070 | * | 0.0350 | Middlesex.
310076 | * | 0.0351 | Essex.
310078 | * | 0.0351 | Essex.
310083 | * | 0.0351 | Essex.
310092 |  | 0.0092 | Mercer.
310093 | * | 0.0351 | Essex.
310096 | * | 0.0351 | Essex.
310108 |  | 0.0350 | Middlesex.
310110 |  | 0.0092 | Mercer.
310119 | * | 0.0351 | Essex.
310123 |  | 0.0351 | Essex.
310124 |  | 0.0350 | Middlesex.
312018 |  | 0.0350 | Middlesex.
313025 |  | 0.0351 | Essex.
313027 |  | 0.0092 | Mercer.
314010 |  | 0.0351 | Essex.
314011 |  | 0.0350 | Middlesex.
314013 |  | 0.0092 | Mercer.
314020 |  | 0.0351 | Essex.
314025 |  | 0.0092 | Mercer.
320003 |  | 0.0629 | San Miguel.
320011 |  | 0.0442 | Rio Arriba.
320018 |  | 0.0063 | Dona Ana.
320085 |  | 0.0063 | Dona Ana.
322001 |  | 0.0629 | San Miguel.
323025 |  | 0.0629 | San Miguel.
323032 |  | 0.0063 | Dona Ana.
324007 |  | 0.0063 | Dona Ana.
324009 |  | 0.0063 | Dona Ana.
324010 |  | 0.0063 | Dona Ana.
324011 |  | 0.0442 | Rio Arriba.
324012 |  | 0.0063 | Dona Ana.
330004 | * | 0.0959 | Ulster.
330008 | * | 0.0470 | Wyoming.
330027 | * | 0.0137 | Nassau.
330094 | * | 0.0778 | Columbia.
330106 | * | 0.0137 | Nassau.
330126 | * | 0.0560 | Orange.
330135 | * | 0.0560 | Orange.
330167 |  | 0.0137 | Nassau.
330181 | * | 0.0137 | Nassau.
330182 | * | 0.0137 | Nassau.
330191 | * | 0.0026 | Warren.
330198 |  | 0.0137 | Nassau.
330205 | * | 0.0560 | Orange.
330209 | * | 0.0560 | Orange.
330224 |  | 0.0959 | Ulster.
330225 |  | 0.0137 | Nassau.
330235 | * | 0.0270 | Cayuga.
330259 |  | 0.0137 | Nassau.
330264 | * | 0.0560 | Orange.
330276 |  | 0.0063 | Fulton.
330331 |  | 0.0137 | Nassau.
330332 |  | 0.0137 | Nassau.
330372 |  | 0.0137 | Nassau.
330386 | * | 0.1139 | Sullivan.
334017 |  | 0.0560 | Orange.
334061 |  | 0.0560 | Orange.
340015 |  | 0.0267 | Rowan.
340020 |  | 0.0207 | Lee.
340021 | * | 0.0216 | Cleveland.
340037 |  | 0.0216 | Cleveland.
340039 | * | 0.0144 | Iredell.
340069 | * | 0.0053 | Wake.
340070 |  | 0.0448 | Alamance.
340073 | * | 0.0053 | Wake.
340085 |  | 0.0377 | Davidson.
340096 |  | 0.0377 | Davidson.
340104 |  | 0.0216 | Cleveland.
340114 | * | 0.0053 | Wake.
340126 | * | 0.0161 | Wilson.
340127 | * | 0.0961 | Granville.
340129 | * | 0.0144 | Iredell.
340133 |  | 0.0308 | Martin.
340138 | * | 0.0053 | Wake.
340144 | * | 0.0144 | Iredell.
340145 | * | 0.0563 | Lincoln.
340173 | * | 0.0053 | Wake.
344001 |  | 0.0053 | Wake.
344004 |  | 0.0961 | Granville.
344011 |  | 0.0053 | Wake.
344014 |  | 0.0053 | Wake.
360013 | * | 0.0166 | Shelby.
360025 | * | 0.0087 | Erie.
360036 | * | 0.0263 | Wayne.
360065 | * | 0.0141 | Huron.
360070 |  | 0.0028 | Stark.
360078 | * | 0.0159 | Portage.
360084 |  | 0.0028 | Stark.
360086 | * | 0.0168 | Clark.
360095 | * | 0.0087 | Hancock.
360100 |  | 0.0028 | Stark.
360107 | * | 0.0213 | Sandusky.
360131 |  | 0.0028 | Stark.
360151 |  | 0.0028 | Stark.
360156 |  | 0.0213 | Sandusky.
360175 | * | 0.0159 | Clinton.
360187 | * | 0.0168 | Clark.
360197 | * | 0.0092 | Logan.
360267 |  | 0.0028 | Stark.
362007 |  | 0.0213 | Sandusky.
362032 |  | 0.0028 | Stark.
364031 |  | 0.0028 | Stark.
364040 |  | 0.0168 | Clark.
370004 | * | 0.0193 | Ottawa.
370014 | * | 0.0831 | Bryan.
370015 | * | 0.0463 | Mayes.
370023 |  | 0.0084 | Stephens.
370065 |  | 0.0121 | Craig.
370113 | * | 0.0205 | Delaware.
370149 |  | 0.0356 | Pottawatomie.
370179 | * | 0.0314 | Okfuskee.
374017 |  | 0.0193 | Ottawa.
380002 |  | 0.0130 | Josephine.
380008 | * | 0.0201 | Linn.
380022 |  | 0.0201 | Linn.
380029 |  | 0.0075 | Marion.
380051 |  | 0.0075 | Marion.
380056 |  | 0.0075 | Marion.
384008 |  | 0.0075 | Marion.
390011 |  | 0.0012 | Cambria.
390044 |  | 0.0200 | Berks.
390046 |  | 0.0098 | York.
390056 |  | 0.0042 | Huntingdon.
390065 | * | 0.0501 | Adams.
390066 | * | 0.0259 | Lebanon.
390096 |  | 0.0200 | Berks.
390101 |  | 0.0098 | York.
390110 | * | 0.0012 | Cambria.
390130 |  | 0.0012 | Cambria.
390138 | * | 0.0325 | Franklin.
390146 |  | 0.0053 | Warren.
390150 | * | 0.0206 | Greene.
390151 | * | 0.0325 | Franklin.
390162 |  | 0.0200 | Northampton.
390201 |  | 0.1127 | Monroe.
390233 |  | 0.0098 | York.
392031 |  | 0.0102 | Cambria.
392034 |  | 0.0200 | Northampton.
393026 |  | 0.0200 | Berks.
393037 |  | 0.0098 | York.
394014 |  | 0.0200 | Berks.
394016 |  | 0.0053 | Warren.
394020 |  | 0.0259 | Lebanon.
420007 |  | 0.0001 | Spartanburg.
420020 | * | 0.0035 | Georgetown.
420027 |  | 0.0210 | Anderson.
420030 | * | 0.0103 | Colleton.
420039 | * | 0.0153 | Union.
420043 |  | 0.0177 | Cherokee.
420068 | * | 0.0097 | Orangeburg.
420070 | * | 0.0101 | Sumter.
420083 |  | 0.0001 | Spartanburg.
420093 |  | 0.0001 | Spartanburg.
420098 |  | 0.0035 | Georgetown.
423029 |  | 0.0210 | Anderson.
424011 |  | 0.0210 | Anderson.
440008 | * | 0.0663 | Henderson.
440024 |  | 0.0387 | Bradley.
440030 |  | 0.0056 | Hamblen.
440035 | * | 0.0441 | Montgomery.
440047 |  | 0.0499 | Gibson.
440056 |  | 0.0321 | Jefferson.
440060 | * | 0.0499 | Gibson.
420063 |  | 0.0011 | Washington.
440067 | * | 0.0056 | Hamblen.
440073 | * | 0.0513 | Maury.
440105 |  | 0.0011 | Washington.
440114 |  | 0.0523 | Lauderdale.
440115 |  | 0.0499 | Gibson.
440148 | * | 0.0568 | De Kalb.
440153 |  | 0.0007 | Cocke.
440174 |  | 0.0372 | Haywood.
440181 |  | 0.0407 | Hardeman.
440184 |  | 0.0011 | Washington.
440185 | * | 0.0387 | Bradley.
444006 |  | 0.0011 | Washington.
444008 |  | 0.0407 | Hardeman.
450032 | * | 0.0416 | Harrison.
450039 | * | 0.0097 | Tarrant.
450050 |  | 0.0750 | Ward.
450059 | * | 0.0073 | Comal.
450064 | * | 0.0097 | Tarrant.
450087 | * | 0.0097 | Tarrant.
450099 | * | 0.0180 | Gray.
450121 | * | 0.0097 | Tarrant.
450135 | * | 0.0097 | Tarrant.
450137 | * | 0.0097 | Tarrant.
450144 | * | 0.0573 | Andrews.
450163 |  | 0.0134 | Kleberg.
450187 | * | 0.0264 | Washington.
450194 | * | 0.0328 | Cherokee.
450214 | * | 0.0368 | Wharton.
450224 | * | 0.0411 | Wood.
450347 | * | 0.0427 | Walker.
450362 |  | 0.0486 | Burnet.
450370 |  | 0.0258 | Colorado.
450389 | * | 0.0881 | Henderson.
450395 |  | 0.0484 | Polk.
450419 | * | 0.0097 | Tarrant.
450438 | * | 0.0258 | Colorado.
450447 | * | 0.0358 | Navarro.
450451 | * | 0.0551 | Somervell.
450465 |  | 0.0435 | Matagorda.
450547 | * | 0.0411 | WOOD.
450563 | * | 0.0097 | Tarrant.
450565 |  | 0.0486 | Palo Pinto.
450596 |  | 0.0808 | Hood.
450597 |  | 0.0077 | De Witt.
450623 | * | 0.0492 | Fannin.
450626 |  | 0.0294 | Jackson.
450639 | * | 0.0097 | Tarrant.
450672 | * | 0.0097 | Tarrant.
450675 | * | 0.0097 | Tarrant.
450677 | * | 0.0097 | Tarrant.
450694 | * | 0.0368 | Wharton.
450747 | * | 0.0195 | Anderson.
450755 | * | 0.0484 | Hockley.
450763 |  | 0.0236 | Hutchinson.
450779 | * | 0.0097 | Tarrant.
450813 |  | 0.0195 | Anderson.
450858 | * | 0.0097 | Tarrant.
450872 | * | 0.0097 | Tarrant.
450880 | * | 0.0097 | Tarrant.
452018 |  | 0.0097 | Tarrant.
452019 |  | 0.0097 | Tarrant.
452028 |  | 0.0097 | Tarrant.
452088 |  | 0.0097 | Tarrant.
453040 |  | 0.0097 | Tarrant.
453041 |  | 0.0097 | Tarrant.
453042 |  | 0.0097 | Tarrant.
453089 |  | 0.0195 | Anderson.
453300 |  | 0.0097 | Tarrant.
453303 |  | 0.0097 | Tarrant.
454009 |  | 0.0328 | Cherokee.
454012 |  | 0.0097 | Tarrant.
454019 |  | 0.0097 | Tarrant.
454051 |  | 0.0097 | Tarrant.
454052 |  | 0.0097 | Tarrant.
454061 |  | 0.0097 | Tarrant.
454086 |  | 0.0097 | Tarrant.
460017 |  | 0.0392 | Box Elder.
460036 | * | 0.0700 | Wasatch.
460039 | * | 0.0392 | Box Elder.
470018 |  | 0.0287 | Windsor
490019 |  | 0.1240 | Culpeper.
490038 |  | 0.0022 | Smyth.
490047 | * | 0.0198 | Page.
490084 |  | 0.0167 | Essex.
490105 | * | 0.0022 | Smyth.
490110 |  | 0.0082 | Montgomery.
494029 |  | 0.0022 | Smyth.
500003 | * | 0.0208 | Skagit.
500007 |  | 0.0208 | Skagit.
500019 |  | 0.0213 | Lewis.
500021 |  | 0.0055 | Pierce.
500024 |  | 0.0023 | Thurston.
500039 | * | 0.0174 | Kitsap.
500041 | * | 0.0118 | Cowlitz.
500079 |  | 0.0055 | Pierce.
500108 |  | 0.0055 | Pierce.
500122 | * | 0.0459 | Island.
500129 |  | 0.0055 | Pierce.
500139 |  | 0.0023 | Thurston.
500143 |  | 0.0023 | Thurston.
503301 |  | 0.0055 | Pierece.
504003 |  | 0.0055 | Pierce.
504010 |  | 0.0055 | Pierce.
510018 | * | 0.0209 | Jackson.
510028 | * | 0.0141 | Fayette.
510039 |  | 0.0112 | Ohio.
510047 | * | 0.0275 | Marion.
510050 |  | 0.0112 | Ohio.
510077 | * | 0.0021 | Mingo.
513025 |  | 0.0112 | Ohio.
520028 | * | 0.0157 | Green.
520035 |  | 0.0077 | Sheboygan.
520044 |  | 0.0077 | SHeboygan.
520057 |  | 0.0118 | Sauk.
520059 | * | 0.0200 | Racine.
520071 | * | 0.0239 | Jefferson.
520095 | * | 0.0118 | Sauk.
520096 | * | 0.0200 | Racine.
520102 | * | 0.0298 | Walworth.
520116 | * | 0.0239 | Jefferson.
520132 |  | 0.0077 | Sheboygan.
522005 |  | 0.0200 | Racine.
523026 |  | 0.0200 | Racine.
524020 |  | 0.0118 | Sauk.
524021 |  | 0.0298 | Walworth.
* Hospitals that have been reclassified under section 1886(d)(10) of the Act, reclassified under section 508 Pub. L. 108-173, or redesignated under section 1886(d)(8) of the Act.

(Catalog of Federal Domestic Assistance Program No. 93.773, Medicare—Hospital Insurance; and Program No. 93.774, Medicare—Supplementary Medical Insurance Program)
Dated: December 20, 2005.
Ann C. Agnew,
Executive Secretary to the Department.

[FR Doc. 05-24447 Filed 12-22-05; 8:45 am]

BILLING CODE 4120-01-P